DEPARTMENT OF TRANSPORTATION

Federal Aviation Administration

14 CFR Part 39

[Docket No. 2001-NM-14-AD; Amendment 39-12102; AD 2001-03-01]

RIN 2120-AA64

Airworthiness Directives; Israel Aircraft Industries, Ltd., Model Galaxy Airplanes

AGENCY: Federal Aviation Administration, DOT.

ACTION: Final rule; request for comments.

SUMMARY: This amendment adopts a new airworthiness directive (AD) that is applicable to all Israel Aircraft Industries, Ltd., Model Galaxy airplanes. This action requires revising the Airplane Flight Manual to advise of the proper operation of the main entry door. This action is necessary to prevent the main entry door from jamming, which could impede the safe evacuation of passengers and crew during an emergency. This action is intended to address the identified unsafe condition.

DATES: Effective February 20, 2001.

Comments for inclusion in the Rules Docket must be received on or before March 5, 2001.

ADDRESSES: Submit comments in triplicate to the Federal Aviation Administration (FAA), Transport Airplane Directorate, ANM-114, Attention: Rules Docket No. 2001-NM-14-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-iarcomment@faa.gov. Comments sent via fax or the Internet must contain “Docket No. 2001-NM-14-AD” in the subject line and need not be submitted in triplicate. Comments sent via the Internet as attached electronic files must be formatted in Microsoft Word 97 for Windows or ASCII text.

Information pertaining to this AD may be examined at the FAA, Transport Airplane Directorate, 1601 Lind Avenue, SW., Renton, Washington.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION: The Civil Aviation Administration of Israel (CAAI), which is the airworthiness authority for Israel, notified the FAA that an unsafe condition may exist on all Israel Aircraft Industries, Ltd., Model Galaxy airplanes. The CAAI advises that, following a landing and complete stop of a Model Galaxy airplane, an attempt to open the main entry door failed when the door jammed partially open because the door handle had been improperly operated, i.e., the handle was not rotated all the way up in one continuous motion. The door sprung out about 18 inches, remained in the vertical position, and dropped about 6 inches, making it nearly impossible to open or close the door from inside the airplane. The door was finally opened with assistance from outside the airplane. Improper operation of the main entry door could cause the door to jam and impede the safe evacuation of passengers and crew during an emergency.

Foreign Airworthiness Directive

The CAAI issued Israeli emergency airworthiness directive 52-00-12-15, dated January 2, 2001, to ensure the continued airworthiness of these airplanes in Israel.

FAA's Conclusions

This airplane model is manufactured in Israel and is type certificated for operation in the United States under the provisions of section 21.29 of the Federal Aviation Regulations (14 CFR 21.29) and the applicable bilateral airworthiness agreement. Pursuant to this bilateral airworthiness agreement, the CAAI has kept the FAA informed of the situation described above. The FAA has examined the findings of the CAAI, reviewed all available information, and determined that AD action is necessary for products of this type design that are certificated for operation in the United States.

Explanation of Requirements of Rule

Since an unsafe condition has been identified that is likely to exist or develop on other airplanes of the same type design registered in the United States, this AD is being issued to prevent the main entry door from jamming, which could impede the safe evacuation of passengers and crew during an emergency. This AD requires a revision of the FAA-approved airplane flight manual (AFM) to advise of the proper operation of the main entry door.

Interim Action

This is considered to be interim action. The manufacturer has advised that it currently is developing a modification that will positively address the unsafe condition addressed by this AD. Once this modification is developed, approved, and available, the FAA may consider additional rulemaking.

Difference Between this AD and the Israeli Airworthiness Directive

The CAAI mandates the installation of placards to advise of the proper operation of the main entry door. However, this AD does not require this action. The FAA has been advised that the placards have been installed on all airplanes in the worldwide fleet, and that the placards are installed on airplanes during production.

Whereas the CAAI mandates that a copy of its airworthiness directive be carried in the airplane, this AD requires that the Normal and Emergency Procedures sections of the AFM be revised.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket 2001-NM-14-AD.” The postcard will be date-stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-03-01 Israel Aircraft Industries, Ltd.: Amendment 39-12102. Docket 2001-NM-14-AD.

Applicability: All Model Galaxy airplanes, certificated in any category.

Compliance: Required as indicated, unless accomplished previously.

To prevent the main entry door from jamming, which could impede the safe evacuation of passengers and crew during an emergency, accomplish the following:

Revisions of the Airplane Flight Manual (AFM)

(a) Within 10 days after the effective date of this AD, revise the the FAA-approved AFM to include the following statements under Section II, Emergency Procedures, Passenger Evacuation, item 5., “Main entrance door/emergency exit—OPEN.” This may be accomplished by inserting a copy of this AD into the AFM.

“If the main entrance door is jammed in a partially opened state, the door may be opened by pushing it out with a force of approximately 88 lbs. This will bend the aircraft sill and skin, allowing the door to open in an emergency.”

(b) Within 10 days after the effective date of this AD, revise the AFM to include the following statements under Section IV, Normal Procedures, Exterior Inspection, Passenger Compartment, item 4.c., “Passenger briefing—COMPLETE, Emergency procedures.” This may be accomplished by inserting a copy of this AD into the AFM.

“When opening the main entrance door from inside the aircraft, the operating handle must be rotated all the way up in one continuous motion, as shown on the placard. If the handle is left at an intermediate position, it may cause the door to slip down and jam in a vertical, unlocked position, preventing egress. The handle is also jammed in the process. The door may be released by exerting a high upwards force on the operating handle or by assistance from outside the airplane.

If the main entrance door is jammed in a partially opened state, the door may be opened by pushing it out with a force of approximately 88 lbs. This will bend the aircraft sill and skin, allowing the door to open in an emergency.”

Alternative Methods of Compliance

(c) An alternative method of compliance or adjustment of the compliance time that provides an acceptable level of safety may be used if approved by the Manager, International Branch, ANM-116, Transport Airplane Directorate, FAA. Operators shall submit their requests through an appropriate FAA Principal Operations Inspector, who may add comments and then send it to the Manager, International Branch, ANM-116.

Note 1: Information concerning the existence of approved alternative methods of compliance with this AD, if any, may be obtained from the International Branch, ANM-116.

Special Flight Permits

(d) Special flight permits may be issued in accordance with sections 21.197 and 21.199 of the Federal Aviation Regulations (14 CFR 21.197 and 21.199) to operate the airplane to a location where the requirements of this AD can be accomplished.

Note 2: The subject of this AD is addressed in emergency Israeli airworthiness directive 52-00-12-15, dated January 2, 2001.

Effective Date

(e) This amendment becomes effective on February 20, 2001.

Issued in Renton, Washington, on January 29, 2001.
Donald L. Riggin,
Acting Manager, Transport Airplane Directorate, Aircraft Certification Service.

[FR Doc. 01-2829 Filed 2-1-01; 8:45 am]

BILLING CODE 4910-13-U